DEPARTMENT OF STATE

Public Notice No. 3434]

Shipping Coordinating Committee; Notice of Meeting

The Shipping Coordinating Committee (SHC) will conduct an open meeting at 1 p.m. on Friday, November 3, in Room 24115, at U.S. Coast Guard Headquarters, 2100 Second Street, SW., Washington, DC 20593-0001. The purpose of the meeting is to finalize preparations for the 49th Session of the Technical Cooperation Committee (TCC 49) and 85th Session of Council of the International Maritime Organization (IMO).

The TCC 49 meeting will be held at IMO Headquarters from 15-16 November 2000. The Technical Cooperation Committee will discuss the Integrated Technical Co-operation Program (ITCP) for 2002-2003. The committee will also discuss the Partnerships for Progress and the status of technical assistance activities provided by member States. Elections will be held for Chairman and Vice-Chairman for 2001.

The 85th Session of the Council is scheduled for 13-17 November 2000, at the IMO Headquarters in London. Items of interest include Committees reports; the Report on the International Conference on the Revision of the International Convention on the Establishment of an International Fund for Compensation for Oil Pollution Damage, 1971; Work Program and Budget for 2001; and a review of the Organization's financial framework in accordance with Assembly resolution A.877(21).

Members of the public may attend these meetings up to the seating capacity of the room. Interested persons may seek information by writing: Director, International Affairs, U. S. Coast Guard Headquarters, Commandant (G-CI), Room 2114, 2100 Second Street, SW., Washington, DC 20593-0001 or by calling: (202) 267-2280.

Dated: October 10, 2000.
Stephen M. Miller,
Executive Secretary, Shipping Coordinating Committee.

[FR Doc. 00-26494 Filed 10-13-00; 8:45 am]

BILLING CODE 4710-07-U